ENVIRONMENTAL PROTECTION AGENCY

[EPA-HQ-OPP-2014-0316; FRL-9909-94]

Receipt of Applications for Emergency Exemptions for Various Pesticides and Commodities; Solicitation of Public Comment

AGENCY: Environmental Protection Agency (EPA).

ACTION: Notice.

SUMMARY: This document announces EPA's receipt of several requests for specific emergency exemptions requesting unregistered pesticide uses under specific emergency conditions. This notice provides an opportunity for public comment on the exemption requests.

DATES: Comments must be received on or before May 28, 2014. The time available for a decision on these applications requires shortening the comment period, as allowed by 40 CFR 166.24(c).

ADDRESSES: Submit your comments, identified by the specific docket identification (ID) number associated with the item you are commenting on, as shown in this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Lois Rossi, Registration Division (7505P), Office of Pesticide Programs, Environmental Protection Agency, 1200 Pennsylvania Ave. NW., Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through www.regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing its receipt of three emergency exemption applications submitted under section 18 of the Federal Insecticide, Fungicide, and Rodenticide Act (FIFRA) (7 U.S.C. 136p), which allows a Federal or State agency to be exempted from any provision of FIFRA if the EPA Administrator determines that emergency conditions exist which require the exemption. Information in accordance with 40 CFR part 166 was submitted as part of these requests. Pursuant to 40 CFR 166.24(a)(8), the regulations governing FIFRA section 18 allow for publication of a notice of receipt of an application for an emergency exemption if the EPA Administrator determines that publication of a notice is appropriate, as specified for each exemption request in the following paragraphs.

1. Clothianidin. (EPA-HQ-OPP-2014-0253). The Florida Department of Agriculture and Consumer Services (FDACS), has requested a specific exemption to use the pesticide clothianidin (CAS No. 210-880-92-5) to treat up to 125,376 acres of young citrus trees to control the transmission of Huanglongbing disease (citrus greening) caused by Asian Citrus Psyllid. As part of this request, the FDACS asserts that clothianidin is needed to control the transmission of Huanglongbing disease caused by Asian Citrus Psyllid due to the lack of available alternative treatments and effective control practices. Further, the FDACS affirms that significant economic loss will occur if this pest is not controlled. The FDACS proposes to make no more than two applications, at a maximum rate of 0.2 lb of clothianidin active ingredient (a.i.) per acre, on no more than 125,376 acres per year (based on 150 trees per acre) between April 15 and November 15, 2014, in commercial groves in Florida. As currently proposed, the maximum amount applied would be 25,037 lb of a.i., clothianidin, per year. FDACS proposes the use of clothianidin, which belongs to the neonicotinoid class of pesticides and is a metabolite of another neonicotinoid, thiamethoxam.

2. Streptomycin. (EPA-HQ-OPP-2014-0260). The Florida Department of Agriculture and Consumer Services (FDACS) has requested a specific exemption to use the pesticide streptomycin (CAS No. 3810-74-0) to treat up to 48,191 acres of fresh-market grapefruit to control citrus canker (caused by the bacteria Xanthomonas axonopodis pv. Citri (Xac)). The FDACS asserts that available alternative controls cause phytotoxic effects to the citrus when used during higher temperatures, and therefore are not adequate to effectively control citrus canker in grapefruit grown for the fresh market. The FDACS claims that significant economic losses are occurring and that this introduced pathogen has become a serious threat to the fresh-market grapefruit industry in the state of Florida. The FDACS proposes to make no more than two applications per crop at a rate of 0.448 lb streptomycin sulfate active ingredient (a.i.) per acre, equivalent to 2 lb formulated product per acre. A maximum total of 0.896 lb a.i. (4 lb product) per acre could be applied on up to 48,191 acres of grapefruit in June through September of 2014. Use could potentially occur statewide, but would primarily be in the commercial grapefruit-producing counties of Collier, De Soto, Hardee, Hendry, Highlands, Indian River, Manatee, Martin, Polk, and St. Lucie. At maximum rates, applications, and acreage, 43,179 lb of a.i., streptomycin sulfate (192,764 lb formulated product) per year, could be used under the proposed program. The FDACS proposes use of streptomycin sulfate, which is also used in humans and animals as an antibiotic drug.

3. Terbufos. (EPA-HQ-OPP-2014-0255). The Georgia Department of Agriculture (GDA) has requested a specific exemption to use the pesticide terbufos (CAS No. 13071-79-9) to treat up to 300,000 acres of cotton to control southern root knot nematodes. As part of this request, the GDA asserts that the loss of the registered alternative, aldicarb, has resulted in a critical and urgent need for a replacement product. Significant economic losses are expected since there are no viable options available for cotton growers in Georgia to control southern root knot nematodes. The GDA proposes to make no more than one at-plant treatment of terbufos per year at a rate of 1.0-2.0 lb terbufos active ingredient (a.i.) or 5-10 lb product per acre, on no more than 300,000 acres between April 15 and July 1, 2014, restricted to the following cotton-producing counties: Appling, Atkinson, Bacon, Baker, Ben Hill, Berrien, Bleckley, Brooks, Bulloch, Burke, Calhoun, Candler, Clay, Coffee, Colquitt, Cook, Crisp, Decatur, Dodge, Dooly, Early, Emanuel, Grady, Houston, Irwin, Jeff Davis, Jefferson, Jenkins, Johnson, Lanier, Laurens, Lee, Macon, Miller, Mitchell, Montgomery, Pierce, Pulaski, Randolph, Screven, Seminole, Sumter, Tattnall, Telfair, Terrell, Thomas, Tift, Toombs, Turner, Ware, Wayne, Wheeler, Wilcox, and Worth. As currently proposed, the maximum amount applied would be 1,950,000 lb of formulated product or 390,000 lb a.i. terbufos per year. The GDA proposes the use of terbufos, which belongs to the organophosphate class of pesticides.

The notice provides an opportunity for public comment on the exemption requests. This notice does not constitute decisions by EPA on the applications themselves. EPA is soliciting public comment before making the decisions whether or not to grant the exemptions. The Agency will review and consider all comments received during the comment periods in determining whether to issue the emergency exemptions requested.

List of Subjects

Environmental protection, Pesticides and pests.

Dated: May 13, 2014.
Daniel J. Rosenblatt,
Acting Director, Registration Division, Office of Pesticide Programs.

[FR Doc. 2014-11800 Filed 5-20-14; 8:45 am]

BILLING CODE 6560-50-P